DEPARTMENT OF COMMERCE

International Trade Administration

Duke University et al.; Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before October 23, 2025. Address written comments to Statutory Import Programs Staff, Room 40005, U.S. Department of Commerce, Washington, DC 20230. Please also email a copy of those comments to Eva.Kim@trade.gov.

Docket Number: 25-019. Applicant: Duke University, 324 Blackwell Street, Durham, NC 27701. Instrument: Narrow Linewidth, Tunable, High Power, 326 nm Laser (greater than 1 W output power). Manufacturer: Shanghai Precilasers Technology Co. Ltd., China. Intended Use: The instrument is intended to investigate exotic quantum systems based on neutral indium atoms. Justification for Duty-Free Entry: According to the applicant, there are no instruments of the same general category manufactured in the United States. Application accepted by Commissioner of Customs: May 9, 2025.

Docket Number: 25-020. Applicant: University of Southern California, 825 Bloom Walk, Los Angeles, CA 90089. Instrument: Single Frequency Fiber Laser (606 nm wavelength and 5 W output power). Manufacturer: Shanghai Precilasers Technology Co. Ltd., China. Intended Use: The instrument is intended to control molecules at the single-quantum state level to develop novel quantum information and computation systems, perform quantum simulations of complex many-body systems, and harness the unique properties of molecules for quantum sensing applications. Justification for Duty-Free Entry: According to the applicant, there are no instruments of the same general category manufactured in the United States. Application accepted by Commissioner of Customs: May 9, 2025.

Docket Number: 25-021. Applicant: New York University, 726 Broadway, 1070 New York, NY 10003. Instrument: Fiber Laser (2923 nm wavelength and 100 mW output power). Manufacturer: Shanghai Precilasers Technology Co. Ltd., China. Intended Use: The instrument is intended to study quantum optics in subwavelength arrays of ultracold strontium atoms. Justification for Duty-Free Entry: According to the applicant, there are no instruments of the same general category manufactured in the United States. Application accepted by Commissioner of Customs: May 14, 2025.

Docket Number: 25-022. Applicant: University of Colorado, JILA Dept, Campus Box 440, UCB Boulder, CO 80309. Instrument: Narrow Linewidth Laser (647 nm and 649 nm wavelength and greater than 1W output power). Manufacturer: Shanghai Precilasers Technology Co. Ltd., China. Intended Use: The instrument is intended to be used to continuously repump the multitude of accessible states during photon cycling in a molecular laser cooling experiment. Justification for Duty-Free Entry: According to the applicant, there are no instruments of the same general category manufactured in the United States. Application accepted by Commissioner of Customs: May 20, 2025.

Docket Number: 25-023. Applicant: University of California, Riverside, 3401 Watkins Drive, Riverside, CA 92521. Instrument: Basic 3D-microfabrication system with Piezo 100 microns—MicroFAB-3D. Manufacturer: MICROLIGHT3D SAS, France. Intended Use: The instrument is intended to be used to study microfluidic devices such as microneedles, microvalves, implantable optofluidic devices. Justification for Duty-Free Entry: According to the applicant, there are no instruments of the same general category manufactured in the United States. Application accepted by Commissioner of Customs: May 8, 2025.

Docket Number: 25-029. Applicant: California Institute of Technology, 1200 E California Blvd., Pasadena, CA 91125. Instrument: Narrow-Linewidth Laser System (813 nm Wavelength and greater than 15 W output power). Manufacturer: Shanghai Precilasers Technology Co., Ltd., China. Intended Use: The instrument is intended to be used to conduct quantum science experiments with strontium atoms in optical tweezer arrays. Justification for Duty-Free Entry: According to the applicant, there are no instruments of the same general category manufactured in the United States. Application accepted by Commissioner of Customs: May 30, 2025.

Docket Number: 25-032. Applicant: Washington State University, French Administration, Building 240, PO Box 64120, Pullman, WA 99164. Instrument: External cavity diode laser; High power laser (820nm, 1012nm, 480nm, 960 nm Wavelength and greater than 70 mW, 80 mW, 200 mW, and 40 mW output power, respectively). Manufacturer: Spectraline Photonics Technologies (Wuhan) Co., Ltd., China. Intended Use: The instrument is intended to be used to generate two-qubits quantum computing system. Justification for Duty-Free Entry: According to the applicant, there are no instruments of the same general category manufactured in the United States. Application accepted by Commissioner of Customs: May 30, 2025.

Docket Number: 25-039. Applicant: Stanford University, 348 Via Pueblo Rd., Stanford, CA 94305). Instrument: 782 nm High Power Narrow Linewidth Laser (greater than 5W output power). Manufacturer: Shanghai Precilasers Technology Co. Ltd., China. Intended Use: The instrument is intended to be used to study cavity quantum electrodynamics. Justification for Duty-Free Entry: According to the applicant, there are no instruments of the same general category manufactured in the United States. Application accepted by Commissioner of Customs: June 17, 2025.

Docket Number: 25-050. Applicant: Massachusetts Institute of Technology, 77 Massachusetts Ave, Cambridge, MA 02139. Instrument: Cryogen-Free Dilution Refrigerator (base temperature below 10mK, cooling power at 20mK of more than 20 µW, cooling power at 100mK of more than 400 µW, and cool down to base temperature in less than 30 hours unloaded). Manufacturer: Bluefors Inc., Finland. Intended Use: The instrument is intended to be used to perform research in superconducting quantum computing. Justification for Duty-Free Entry: According to the applicant, there are no instruments of the same general category manufactured in the United States. Application accepted by Commissioner of Customs: June 23, 2025.

Docket Number: 25-051. Applicant: UChicago Argonne LLC, 9700 S Cass Avenume, Lemont, Illinois 60439. Instrument: Fully Motorized Transfer System, HQ2D MOT. Manufacturer: HQ Graphene Systems B.V., Netherlands. Intended Use: The instrument is intended to efficiently perform dry or semi-dry transfer processes of high-quality two-dimensional (2D) materials. Justification for Duty-Free Entry: According to the applicant, there are no instruments of the same general category manufactured in the United States. Application accepted by Commissioner of Customs: June 11, 2025.

Docket Number: 25-052. Applicant: California State University Long Beach, 1250 Bellflower Blvd., Long Beach, CA 90840. Instrument: Dilution Refrigerator Insert (with cryogenic microwave filtering). Manufacturer: Oxford Instruments, U.K. Intended Use: The instrument is intended to study quantum materials with properties that are useful for future technologies in quantum information science and photovoltaics. Justification for Duty-Free Entry: According to the applicant, there are no instruments of the same general category manufactured in the United States. Application accepted by Commissioner of Customs: June 5, 2025.

Docket Number: 25-053. Applicant: University of Wisconsin-Madison, 1150 University Ave, Madison, WI 53706. Instrument: Dilution Refrigerator System with Bottom—Loading Mechanism, Vibration Isolation, Optical Access and Vector Magnet (base temperature below 10 mK, cooling power greater than 250 μW at 100 mK and more than 12 μW at 20 mK) . Manufacturer: Bluefors Inc., Finland. Intended Use: The instrument is intended to investigate 2D superconductivity and 2D magnetism as emergent quantum phenomena in 2D quantum materials. Justification for Duty-Free Entry: According to the applicant, there are no instruments of the same general category manufactured in the United States. Application accepted by Commissioner of Customs: June 3, 2025.

Docket Number: 25-054. Applicant: Cornell University, 211 Clark Hall, 142 Sciences Drive, Ithaca, NT 14853. Instrument: Electron Microscope- TESCAN AMBER X 2 GMH S8251X S/N 124-0231. Manufacturer: TESCAN Group, Czech Republic. Intended Use: The instrument is intended to be used to view the structure and electronic properties of the material at the atomic scale to learn about its properties. Justification for Duty-Free Entry: According to the applicant, there are no instruments of the same general category manufactured in the United States. Application accepted by Commissioner of Customs: June 25, 2025.

Docket Number: 25-055. Applicant: Massachusetts Institute of Technology, 77 Massachusetts Avenue, Cambridge, MA 02139. Instrument: Dilution Refrigerator with Passive Damper and Helium Battery (Base temperature below 10 mK, cooling power more than 14 µW at 20 mK, and cool down to base temperature in less than 24 hours unloaded). Manufacturer: Bluefors Inc., Finland. Intended Use: The instrument is intended to be used to study the electrical resistance of two-dimensional material devices, such as graphene. Justification for Duty-Free Entry: According to the applicant, there are no instruments of the same general category manufactured in the United States. Application accepted by Commissioner of Customs: June 17, 2025.

Docket Number: 25-056. Applicant: University at Buffalo, The State University of New York, 224 Crofts Hall, Buffalo, NY 14260. Instrument: Duo-Axis Rotation Probe. Manufacturer: Multi-Field Low Temperature Technology (Beijing) Co., Ltd., China. Intended Use: The instrument is intended to provide precise measurements of superconducting thin films and quantum materials in cryogenic environments, supporting angular-dependent studies of critical current density and magnetic anisotropy. Justification for Duty-Free Entry: According to the applicant, there are no instruments of the same general category manufactured in the United States. Application accepted by Commissioner of Customs: June 18, 2025.

Docket Number: 25-057. Applicant: Yale School of Medicine, 899 Howard Avenue, CMHC, New Haven, CT 06519. Instrument: Supernova-100 Miniature two-photon microscopy imaging system (mini 2-photon imaging with two lasers and two different wavelengths). Manufacturer: Transcend Vivoscope, China. Intended Use: The instrument is intended to investigate the effects of the primary cannabionoids found in cannabis, tetrahydrocannabinol (THC) and cannabidiol (CBD) on neurodevelopment when exposure occurs during early life. Justification for Duty-Free Entry: According to the applicant, there are no instruments of the same general category manufactured in the United States. Application accepted by Commissioner of Customs: June 17, 2025.

Dated: September 30, 2025.
Tyler J. O'Daniel,
Acting Director, Subsidies Enforcement, Enforcement and Compliance.

[FR Doc. 2025-19407 Filed 10-2-25; 8:45 am]

BILLING CODE 3510-DS-P